DEPARTMENT OF HEALTH AND HUMAN SERVICES

Administration for Children and Families

Proposed Information Collection Activity; Comment Request Proposed Projects

Title: Territory TANF Financial Report (ACF-196TR).

OMB No.: New collection.

Description: Authority to collect and report this information is found in the Personal Responsibility and Work Opportunity Reconciliation Act of 1996 (PRWORA), Public Law 104-193. Territories with approved plans for implementation of the TANF program are required by statute to report financial data. Form ACF-196TR provides for collection of Federal expenditures data. Failure to collect this data would seriously compromise the Administration for Children and Families (ACF) ability to monitor expenditures and maintain financial management of the Territories TANF program. The financial data collected is also used to estimate outlays and may be used to prepare ACF budget submissions to Congress. Federal policy requires the strictest controls on funding requirements, which necessitates review of documentation in support of Territories expenditures for reimbursement.

Respondents: All Territories TANF Agencies.

Annual Burden Estimates
Instrument | Number of respondents | Number of responses per respondent | Average burden hours per response | Total burden hours
ACF-196TR | 3 | 4 | 8 | 96

Estimated Total Annual Burden Hours: 96.

In compliance with the requirements of Section 506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Officer. E-mail address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: April 06, 2009.
Janean Chambers,
Reports Clearance Officer.

[FR Doc. E9-8058 Filed 4-8-09; 8:45 am]

BILLING CODE 4184-01-P